PEACE CORPS

Proposed Information Collection Requests

AGENCY: Peace Corps.

ACTION: Notice of re-instatement of public use form review request to the Office of Management and Budget (OMB).

SUMMARY: Pursuant to the Paperwork Reduction Act of 1981 (44 U.S.C. chapter 35), the Peace Corps has submitted to the Office of Management and Budget (OMB) a request for re-instatement of OMB Control Number 0420-0510, the Peace Corps Health Status Review form (PC-1789S). This is a re-instatement of an expired information collection with revisions. The revisions includes an additional HIV question to the PC-1789S form Volunteer Medical Application: Health Status Review for Peace Corps Volunteers. The purpose of this information collection is necessary to ensure that Volunteers meet this medical eligibility requirement, all applicants for service must undergo physical and dental examination prior to Volunteer service to provide the information needed for clearance, and to serve as a reference for any future Volunteer medical clearance, and to serve as a reference for any future Volunteer disability claims. The Health Status Review form is used to review the medical history of individual applicants, and currently serving Volunteers. The results of these examinations are used to ensure that applicants for Volunteer service will, with reasonable accommodation, be able to serve in the Peace Corps without jeopardizing their health.

The purpose of this notice is to allow for public comment on whether the proposed collection of information is necessary for the proper performance of the functions of the Peace Corps, including whether their information will have practical use; the accuracy of the agency's estimate of the burden of the proposed collection of information, including the validity of the methodology and assumptions used; ways to enhance the quality, utility and clarity of the information to be collected; and, ways to minimize the burden of the collection of information on those who are to respond, including through the use of automated collection techniques, when appropriate, and other forms of information technology.

A copy of the information collection may be obtained from Ms. Emilie Deady, Peace Corps, Office of Volunteer Support, 1111 20th Street, NW., Room 5205, Washington, DC 20526. Ms. Deady may be contacted by telephone at 202-692-1509. Ms. Deady may be e-mailed at edeady@peacecorps.gov. Comments on the form should also be addressed to the attention of Ms. Deady and should be received on or before July 24, 2007.

Information Collection Abstract

Title: The Peace Corps Health Status Review form (PC-1789).

Need For and Use of this Information: The Health Status Review is used to review the medical history of individual applicants, and currently serving Volunteers. The results of these examinations are used to ensure that applicants for Volunteer service will, with reasonable accommodation, be able to serve in the Peace Corps without jeopardizing their health.

Respondents: Potential and current Volunteers.

Respondent's Obligation To Reply: Voluntary.

Burden on the Public
| PC-1789 health status review
a. Estimated number of respondents | 9,700.
b. Estimated average burden per response | 45 minutes.
c. Frequency of response | one time.
d. Annual reporting burden | 7,275 hours.
e. Estimated annual cost to respondents | $138,298.

Dated: May 18, 2007
Wilbert Bryant,
Associate Director for Management.

[FR Doc. 07-2603 Filed 5-24-07; 8:45 am]

BILLING CODE 6051-01-M